DEPARTMENT OF ENERGY

Federal Energy Regulatory Commission

[Project No. 13881-000]

City of Astoria, OR; Notice of Competing Preliminary Permit Application Accepted for Filing and Soliciting Comments and Interventions

January 21, 2011.

On November 19, 2010, the City of Astoria, Oregon filed an application for a preliminary permit, pursuant to section 4(f) of the Federal Power Act, proposing to study the feasibility of the Bear Creek Water Supply Hydroelectric Project utilizing the Astoria Municipal Water System on Bear Creek in Clatsop County, Oregon. The sole purpose of a preliminary permit, if issued, is to grant the permit holder priority to file a license application during the permit term. A preliminary permit does not authorize the permit holder to perform any land disturbing activities or otherwise enter upon lands or waters owned by others without the owners' express permission.

The proposed project would consist of three developments, Site 1 Plant, Reservoir 3 Plant, and Reservoir 2 Plant, and would include the following facilities:

Site 1 Plant

(1) An 8-foot-long, 14-foot-wide vault housing a single 40-kilowatt (kW) turbine/generator unit; and (2) an approximately 1,290-foot-long, 26-inch-diameter high density polyethylene penstock.

Reservoir 3 Plant

(1) The existing Reservoir 3 with a surface area of 3.4-acres and a storage capacity of approximately 61-acre-foot at elevation 426 feet mean sea level (msl); (2) an existing structure which will house a single turbine/generator with an installed capacity of 50 kW unit; (3) a standard flow meter; and (4) an approximately 10-mile-long, 21-inch-diameter steel penstock.

Reservoir 2 Plant

(1) The existing Reservoir 2 with a surface area of approximately 2.4-acres and a storage capacity of approximately 15-acre-foot at elevation of 265-feet msl; (2) an existing structure which will house a single turbine/generator unit with an installed capacity of 50 kW; (3) a standard flow meter; and (4) an approximately one-mile-long, 21-inch-diameter steel penstock.

The three developments would have a combined capacity of 145 kilowatts. The proposed project would have an average annual generation of 850,000 kilowatt-hours.

Applicant Contact: Paul Benoit, City of Astoria, Oregon, 1095 Duane St., Astoria, OR 97103; phone: (503) 325-5824; e-mail: pbenoit@astoria.or.us.

FERC Contact: Kelly Wolcott (202) 502-6480.

Competing Applications: This application competes with Project No. 13720-000 filed May 5, 2010.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13881) in the docket number field to access the document. For assistance, contact FERC Online Support.

Kimberly D. Bose,
Secretary.

[FR Doc. 2011-2144 Filed 1-31-11; 8:45 am]

BILLING CODE 6717-01-P